DEPARTMENT OF COMMERCE

International Trade Administration

[A-570-888]

Floor—Standing Metal—Top Ironing Tables and Certain Parts Thereof from the People's Republic of China: Extension of Time Limit for Final Results of Administrative Review

AGENCY: Import Administration, International Trade Administration, Department of Commerce

DATES: Effective Date: December 27, 2010.

FOR FURTHER INFORMATION CONTACT: Michael Heaney or Robert James, AD/CVD Operations, Office 7, Import Administration, International Trade Administration, U.S. Department of Commerce, 14th Street and Constitution Avenue NW., Washington, DC 20230; telephone: (202) 482-4475 or (202) 482-0649, respectively.

SUPPLEMENTARY INFORMATION: On September 14, 2010, the Department of Commerce (the Department) published the preliminary results of its 2008-2009 administrative review of the antidumping duty order of floor-standing, metal-top ironing tables and certain parts thereof from the People's Republic of China. See Floor-Standing, Metal-Top Ironing Tables and Certain Parts Thereof From the People's Republic of China: Preliminary Results of Antidumping Duty Administrative Review 75 FR 55754 (September 14, 2010). The current deadline for the final results of this review is January 12, 2011.

Extension of Time Limit for Final Results

Section 751(a)(3)(A) of the Tariff Act of 1930, as amended (the Act) requires the Department to issue the final results of this administrative review within 120 days after the date on which the preliminary results were published in the Federal Register. However, if it is not practicable to complete the review within this time period, the Department may extend the time period to issue the final results. See section 751(a)(3)(A) of the Act and 19 CFR 351.213(h)(1).

The Department finds that it is not practicable to complete this review within the original time frame. In order to fully evaluate the issues raised by all interested parties concerning the proper source of financial ratios, the correct method for calculating labor rates and other case issues, we are extending the time frame for completion of this review. Consequently, in accordance with section 751(2)(3)(A) of the Act and 19 CFR 351.213(h)(2), the Department is extending the time period for issuing the final results of review by 60 days. Therefore, the final results will be due no later than March 13, 2011. As March 13, 2011 falls on a Sunday, our final results will be issued no later than Monday March 14, 2011.

This notice is published in accordance with section 771(i) of the Act.

Dated: December 20, 2010.
Christian Marsh,
Deputy Assistant Secretary for Antidumping and Countervailing Duty Operations.

[FR Doc. 2010-32469 Filed 12-23-10; 8:45 am]

BILLING CODE 3510-DS-P